DEPARTMENT OF THE TREASURY

Submission for OMB Review; Comment Request

June 24, 2016.

The Department of the Treasury will submit the following information collection request to the Office of Management and Budget (OMB) for review and clearance in accordance with the Paperwork Reduction Act of 1995, Public Law 104-13, on or after the date of publication of this notice.

DATES: Comments should be received on or before August 1, 2016 to be assured of consideration.

ADDRESSES: Send comments regarding the burden estimates, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8117, Washington, DC 20220, or email at PRA@treasury.gov.

FOR FURTHER INFORMATION CONTACT: Copies of the submission may be obtained by emailing PRA@treasury.gov, calling (202) 622-1295, or viewing the entire information collection request at www.reginfo.gov.

Internal Revenue Service (IRS)

OMB Control Number: 1545-1610.

Type of Review: Revision of a currently approved collection.

Title: Annual Return/Report of Employee Benefit Plan.

Form: Form 5500 and schedules.

Abstract: The Annual Return/Report of Employee Benefit Plan is an annual information return filed by employee benefit plans. The IRS uses this information for a variety of matters, including ascertainment whether a qualified retirement plan appears to conform to requirements under the Internal Revenue Code or whether the plan should be audited for compliance.

The Pension Benefit Guaranty Corporation (PBGC), the Department of Labor (DOL), and the Internal Revenue Service (IRS) work together to produce Form 5500 Annual Return/Report for Employee Benefit Plan and Form 5500-SF Short Form Annual Return/Report for Small Employee Benefit Plan (Form 5500 Series), through which the regulated public can satisfy the combined reporting/filing requirements applicable to employee benefit plans. The IRS produces Form 5500-SUP, a paper-only form, that is used by certain sponsors and administrators of retirement plans to satisfy certain of the reporting requirements of section 6058 of the Internal Revenue Code. Form 5500-SUP should be used only if certain IRS compliance questions are not answered electronically on the Form 5500 or Form 5500-SF.

BILLING CODE 4830-01-P

Affected Public: Businesses or other for-profits; Individuals or households; Not-for-profit institutions; and Farms.

Estimated Total Number of Respondents: 806,500.

Estimated Total Annual Burden Hours: 320,208.

Brenda Simms,
Treasury PRA Clearance Officer.

[FR Doc. 2016-15532 Filed 6-29-16; 8:45 am]

BILLING CODE 4830-01-C